DEPARTMENT OF ENERGY

Critical Materials Strategy Request for Information

AGENCY: Department of Energy.

ACTION: Notice of availability of Request for Information (RFI).

SUMMARY: The U.S. Department of Energy (DOE) is seeking information from stakeholders on rare earth elements and other materials used in energy technologies to support analyses updating its 2010 Critical Materials Strategy.

FOR FURTHER INFORMATION CONTACT: For further information or to obtain a copy of this Request for Information (RFI), please contact DOE at materialstrategy@hq.doe.gov or call 202-586-5800. The RFI is also available on DOE's Web site at http://www.pi.energy.gov.

DATES: Responses to the RFI are due no later than 5 p.m. (EDT) on May 24, 2011.

SUPPLEMENTARY INFORMATION: Last year, DOE issued its first Critical Materials Strategy. This year, DOE will update its analysis. The responses to this RFI will help DOE develop a more detailed picture of technology material content, supply chain structure, financing, R&D, energy technology transitions and recycling. This information will help DOE to analyze material criticality and determine the best policies to promote diverse, sustainable and economical supplies, as well as efficient use.

Dated: March 18, 2011.
David Sandalow,
Assistant Secretary for Policy and International Affairs, Department of Energy.

[FR Doc. 2011-6971 Filed 3-23-11; 8:45 am]

BILLING CODE 6450-01-P